DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of April, 2002.

In order for an affirmative determination to be made and a certification of eligibility to apply for worker adjustment assistance to be issued, each of the group eligibility requirements of section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,922; Tessy Plastic Corp., Elbridge, NY

TA-W-40,216; Paul Flagg Leather Co., Sheboygan, WI

TA-W-40,469; Kellogg Crankcrafts, Jackson, MI

TA-W-41,127; Phaztech, Inc., St. Marys, PA

TA-W-39,982; Auto Body Connection, Erie, PA

TA-W-40,447; SCI, Inc., Lynchburg, VA

TA-W-40,030; Brown and Sharpe, A Div. Of Hexagon AB, North Kingstown, RI

In the following cases, the investigation revealed that the criteria for eligibility have not been met for the reasons specified.

Increased imports did not contribute importantly to worker separations at the firm.

TA-W-41,150; Robur Corp., Evansville, IN

TA-W-41,182; Hughes Fabricating Co., Inc., Corinth, MS

TA-W-40,236; Strippit/LVD, Akron, NY

TA-W-41,210; Burlington Chemical Co., Burlington, NC

TA-W-40,366; Mike Dent Enterprises, Burns, OR

TA-W-39,956; Commander Aircraft Co., Bethany, OK

TA-W-40,007; DESA International, Shelbyville, TN

TA-W-40,438; Appleton Paper, Inc., Harrisburg Plant, Camp Hill, PA

TA-W-40,461; Daishowa America Co. LTD, Marine Drive Yard, Port Angeles, WA

TA-W-40,527; Clearwater Forest Industries, Inc., Kooshia, ID

TA-W-41,104; Siegel Robert of Arkansas, Siegel Robert, Inc., Wilson, AR

TA-W-40,796; Theo. Tiedemann and Sons, Inc., Mahwah, NJ

The workers firm does not produce an article as required for certification under Section 222 of the Trade Act of 1974.

TA-W-40,588; Bliss Clearing Niagara, Inc., Formerly Doing Business as CNB International, Inc., Hastings, MI

TA-W-40,415; Pressman-Gutman Co., Inc., New York, NY

TA-W-41,162; Delphi Automotive Systems Corp., Delphi Delco Electronics Div., Body and Security Team, Oak Creek, WI

The investigation revealed that criteria (2) has not been met. Sales or production did not decline during the relevant period as required for certification.

TA-W-40,309; Firestone Tube Co., A Div. Of Bridgestone/Firestone North America Tire, LLC, A Subsidiary of Bridgestone Corp., Russellville, AR

TA-W-40,762; Presto Products Manufacturing Co., Presto Products Co., Alamogardo, NM

Affirmative Determinations for Worker Adjustment Assistance

The following certifications have been issued; the date following the company name and location of each determination references the impact date for all workers of such determination.

TA-W-40,240; S.B. Inc., Formfit Apparel Div., Lafayette, TN: October 5, 2000.

TA-W-40,260; Chicago Cutlery, A Div. Of World Kitchen, Inc., Wauconda, IL: October 5, 2000.

TA-W-40,363 & A; The William Carter Co., Barnesville, GA and Milner, GA: November 9, 2000.

TA-W-40,386; Celestica Corp., Milwaukie, OR: November 19, 2000.

TA-W-40,445; Composidie, Inc., Apollo, PA: November 5, 2000.

TA-W-40,716; Hathaway/Waterville Shirt Co., Waterville, ME: January 2, 2001.

TA-W-40,851; Owens Illinois, Plastic Containers Div., Newburyport, MA: January 9, 2001.

TA-W-41,129; The Orvis Co., Inc., Tipton, MO: February 25, 2001.

TA-W-41,057; Ingersoll CM Systems, Inc., Midland, MI: February 8, 2001.

TA-W-41,097; Tillmann Tool and Die, Inc., Breckenridge, MN: December 7, 2000.

TA-W-40,968; Toshiba Ceramics America, Inc., Hillsboro, OR: January 3, 2001.

TA-W-40,883; Iomega Corp., Roy, UT: October 23, 2000.

TA-W-40,747; Bose Corp., Hillsdale, MI: December 13, 2000.

TA-W-40,719; Associated Spring, Barnes Group, Inc., Dallas, TX: January 22, 2001.

TA-W-40,316; American Furniture Co., Martinsville, VA: October 4, 2000.

TA-W-40,272; National Metal Industries, West Springfield, MA: October 9, 2000.

TA-W-40,014; MECO Corp., Greeneville, TN: August 26, 2000.

TA-W-39,975; Pleatz LLC, New York, NY: August 10, 2000.

Also, pursuant to Title V of the North American Free Trade Agreement Implement Implementation Act (Pub. L. 103-182) concerning transitional adjustment assistance hereinafter called (NAFTA-TAA) and in accordance with section 250(a), subchapter D, chapter 2, Title II, of the Trade Act as amended, the Department of Labor presents summaries of determinations regarding eligibility to apply for NAFTA-TAA issued during the month of April, 2002.

In order for an affirmative determination to be made and a certification of eligibility to apply for NAFTA-TAA the following group eligibility requirements of Section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTAA-TAA

In each of the following cases the investigation revealed that criteria (3) and (4) were not met. Imports from Canada or Mexico did not contribute importantly to workers' separations. There was no shift in production from the subject firm to Canada or Mexico during the relevant period.

NAFTA-TAA-05916; Siegel Robert of Arkansas, Siegel Robert, Inc., Wilson, AR

NAFTA-TAA-05185; Conveyco Manufacturing, Clackamas, OR

NAFTA-TAA-05444; American Furniture Co., Martinsville, VA

NAFTA-TAA-05492; Wheeling Corrugating Co., Chehalis, WA

NAFTA-TAA-05562; Kellog Crankshaft, Jackson, MI

NAFTA-TAA-05637; Daishowa America Co., Ltd, Marine Drive Chip Yard, Port Angeles, WA

NAFTA-TAA-05706; Clearwater Forest Industries, Inc., Kooskia ID

NAFTA-TAA-05252; Auto Body Connection, Erie, PA

NAFTA-TAA-05401; S.B.F., Inc., Formfit Apparel Div., Lafayette, TN

NAFTA-TAA-05601 & A; Onkyo America, Inc., Columbus, IN and Troy MI

NAFTA-TAA-05673; Phoenix Gold International, Inc., Portland, OR

NAFTA-TAA-05773; Superior Milling, Inc., Watersmeet, MI

NAFTA-TAA-05072; Endar Corp., Temecula, CA

The workers firm does not produce an article as required for certification under section 250(a), subchapter D, chapter 2, Title II, of the trade Act of 1974, as amended

NAFTA-TAA-5755; Delphi Automotive Systems Corp., Delphi Delco Electronics Div., Body and Security Team, Oak Creek, WI

Affirmative Determinations NAFTA-TAA

NAFTA-TAA-05644; Bose Corp., Hillsdale, MI: December 13, 2000.

NAFTA-TAA-05801; Associated Spring, Barnes Group, Inc., Dallas, TX: January 22, 2001.

NAFTA-TAA-05809; Haworth, Inc., Myrtle—Mueller Div., Including Workers of Coastal Temporary Service, Chadbourn, NC: January 30, 2001.

NAFTA-TAA-5904; Bacou Dalloz USA, Inc., Dalloz Safety, Snow Hill NC: February 20, 2001

NAFTA-TAA-04903; Mowad Apparel, Inc., El Paso, TX: May 5, 2001.

NAFTA-TAA-05620; E-M Solutions, Longmont, CO: December 5, 2000.

NAFTA-TAA-05586; Celestica Corp., Milwaukie, OR: November 19, 2000.

I hereby certify that the aforementioned determinations were issued during the month of April, 2002. Copies of these determinations are available for inspection in Room C-5311, U.S. Department of Labor, 200 Constitution Avenue, NW, Washington, DC 20210 during normal business hours or will be mailed to persons who write to the above address.

Dated: April 22, 2002.
Edward A. Tomchick,
Director, Division of Trade Adjustment Assistance.

[FR Doc. 02-10891 Filed 5-1-02; 8:45 am]

BILLING CODE 4510-30-M